DEPARTMENT OF AGRICULTURE

Submission for OMB Review; Comment Request

September 10, 2003.

The Department of Agriculture has submitted the following information collection requirement(s) to OMB for review and clearance under the Paperwork Reduction Act of 1995, Pub. L. 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_ Beverly_ OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Animal and Plant Health Inspection Service

Title: Permit for Movement of Restricted Animals.

OMB Control Number: 0579-0051.

Summary of Collection: Title 21, U.S.C. authorizes sections 111, 114, 114a, 114-1, 115, 120, 121, 125, 126, 134a, 134c, 134f, and 134g of the 21 U.S.C. These authorities permit the Secretary to prevent, control and eliminate domestic animal diseases, as well as to take actions to prevent and to manage exotic animal diseases. Disease prevention is the most effective method of maintaining a healthy animal population and for enhancing the Animal and Plant Health Inspection Service (APHIS) ability to compete in the world market of animals and animal product trade. When farm animals become sick or have been exposed to a disease, it is important that they be removed promptly from their farms. When transporting animals across state lines, the owner completes VS Form 1-27, “Permit for Movement of Restricted Animals”.

Need and Use of the Information: APHIS will collect the owner's name, address, the animals' point of origin and destination, the number of animals being moved, the purpose of the movement, and various pieces of animal identification data so that each animal can be identified. Meat inspector to report the slaughter of the animals to veterinary services also uses VS Form 1-27. Without the information, APHIS would be unable to effectively monitor and control the movement of sick animals, a situation that could seriously compromise the health of the U.S. livestock population.

Description of Respondents: Business or other for-profit.

Number of Respondents: 4,000.

Frequency of Responses: Reporting: On occasion.

Total Burden Hours: 996.

Animal and Plant Health Inspection Service

Title: Poultry Imports and Export.

OMB Control Number: 0579-0141.

Summary of Collection: Title 21 U.S.C. authorizes sections 111, 114, 114a, 115, 120, 121, 125, 126, 134a, 134c, 134f, and 134g of 21 U.S.C. These authorities permit the Secretary to prevent, control and eliminate domestic diseases such as brucellosis, as well as to take actions to prevent and to manage exotic diseases such as exotic Newcastle disease (END) and other foreign diseases. Disease prevention is the most effective method for maintaining a healthy animal population and enhancing the Animal and Plant Health Inspection Service (APHIS) ability to compete in exporting animals and animal products. The regulations under which disease prevention activities are contained are in Title 9, Chapter 1, Subchapter D, and Parts 91 through 99 of the Code of Federal Regulations. The purpose of these regulations is to allow poultry meat that originates in the United States to be shipped, for processing purposes, to a region where exotic Newcastle disease exists, and then returned to the United States. The process entails the use of four information collection activities in the form of a certificate of origin, serial numbers, records that must be maintained, and cooperative service agreements that must be signed.

Need and Use of the Information: APHIS will collect information to ensure that imported poultry carcasses pose a negligible risk of introducing END into the United States.

Description of Respondents: Business or other for-profit.

Number of Respondents: 4.

Frequency of Responses: Recordkeepking; Reporting: On occasion.

Total Burden Hours: 30.

Animal and Plant Health Inspection Service

Title: Tuberculosis, TB in Cattle, Bison, and Goats.

OMB Control Number: 0579-0146.

Summary of Collection: Title 21, U.S.C. authorizes sections 111, 114, 114a, 114-1, 115, 120, 121, 125, 126, 134a, 134c, 134f, and 134g of the 21 U.S.C. These authroities permit the Secretary to prevent, control and eliminate domestic animal diseases, such as tuberculosis and brucellosis, as well as to take actions to prevent and to manage exotic animal diseases. Disease prevention is the most effective method of maintaining a healthy animal population and for enhancing the Animal and Plant Health Inspection Service (APHIS) ability to compete in the world market of animals and animal product trade. APHIS participates in the Cooperative State-Federal Bovine Tuberculosis Eradication Program, which is a national program to eliminate bovine tuberculosis from the United States. Part 77 of Title 9, Code of Federal Regulations, provides for the assignment of tuberculosis risk classifications for States, for the creation of tuberculosis risk status zone within the same State, and for conducting of tests before regulated animals are permitted to move interstate. The zone system enhances the ability of States to move healthy, tuberculosis-free cattle, bison, goats, and captive cervids interstate as well as internationally. The zoning, testing and movement activities will require the use of several information collection activities.

Need and Use of the Information: APHIS will collect the following: (1) Submission of a formal request that a zone within a given State is given a different tuberculosis status than the rest of the State, (2) an epidemiological review of reports of all testing for all zones within the State within 30 days of testing, (3) the submission of an annual report to APHIS in order to quality for renewal of accredited free State or zone status, (4) the completion of a certificate of tuberculin test that must accompany certain regulated animals that are moved interstate, (5) the retention, for 2 years, of any certificates documenting the movement of regulated animals into and out of zones; and (6) the creation of a tuberculosis herd management plan as a tool for eradicating the disease within a State or zone. Without the information, APHIS would not be able to operate an effective tuberculosis surveillance, containment, and eradication program.

Description of Respondents: Business or other for-profit; Farms; State, Local or Tribal Government.

Number of Respondents: 210.

Frequency of Responses: Recordkeepking; Reporting: On occasion.

Total Burden Hours: 636.

Animal and Plant Health Inspection Service

Title: Phytosanitary Certificates for Imported Fruits and Vegetables.

OMB Control Number: 0579-0184.

Summary of Collection: The United States Department of Agriculture is responsible for preventing plant diseases or insect pests from entering the United States, preventing the spread of pests not widely distributed in the United States, and eradicating those imported pests when eradication is feasible. The Plant Quarantine Act and the Federal Plant Pest Act authorize the Department to carry out this mission. The Animal and Plant Health Inspection Service (APHIS) published a final rule that will require all fruits and vegetables entering the United States from foreign regions to be accompanied by a phytosanitary certificate. The use of phytosanitary certificates is the approach that regulatory officials around the world are increasingly relying on to help reduce the introduction and spread of plant pests.

Needs and Use of the Information: APHIS will use the phytosanitary certificate to determine the pest condition of the shipment at the time it was inspected in its country of origin. APHIS will also collect information to determine the intensity of the inspection that is performed when the shipment arrives in the United States. Without this information, APHIS would need to inspect each and every shipment very thoroughly to ensure that no pests were accompanying the shipment.

Description of Respondents: Business or other for-profit.

Number of Respondents: 4,000.

Frequency of Responses: Reporting: On occasion.

Total Burden Hours: 25,000.

Forest Service

Title: Airplane Pilot Qualifications and Approval Record, Helicopter Pilot Qualifications and Approval Record, Airplane Data Record, and Helicopter.

OMB Control Number: 0596-0015.

Summary of Collection: The Forest Service (FS) is the largest owner and operator of aircraft in the federal government outside of the Department of Defense. To conduct the Forest Service land management mission FS uses 44 owned aircraft with 315 aircraft on loan to 18 States for fire suppression activities. The majority of FS flying is in support of wildland fire suppression. In addition to the agency-owned aircraft, the FS contracts with approximately 400 vendors for aviation services used in resource protection and administrative projects. Contractor aircraft and pilots are used to place water and chemical retardants on fires, provide aerial delivery of firefighters to fires, perform reconnaissance, resource surveys, search for lost personnel, and fire detection. Contracts for such services established rigorous qualification requirements for pilots and specific condition/equipment/performance requirements for aircraft. The authority is granted under the Federal Aviation Administration Regulations in Title 14 (Aeronautics and Space) of the Code of Federal Regulations.

Needs and Use of the Information: FS will collect information using FS forms to document the basis for approval of contract pilot and aircraft for use in specific FS aviation missions. The information collected from contract pilots in face-to-face meetings (such as name, age, pilot's license number, number of hours flown in type of aircraft, etc.) is based on the length and type of contract but is usually done on a reoccurring annual basis. Without the information supplied on these forms, FS contracting officers and pilot/aircraft inspectors cannot determine if pilots and aircraft meet the detailed qualification, and condition requirements essential to safe efficient accomplishment of FS specified flying missions and which are included in contract specifications.

Description of respondents: Individuals or households; Business or other for-profit; State, Local or Tribal Government.

Number of Respondents: 1,030.

Frequency of Responses: Reporting: Annually.

Total Burden Hours: 258.

Forest Service

Title: Application for Permit Non-Federal Commercial Use of Roads by Order.

OMB Control Number: 0596-0016.

Summary of Collection: The Forest Service (FS) transportation system includes approximately 380,000 miles of roads. These roads are grouped into five maintenance levels. Level one includes roads which are closed and maintained only to protect the environment. Level of maintenance increase to level five which is maintained for safe passenger car use. The roads usually provide the only access to commercial products including timber and minerals found on both Federal and private lands within and adjacent to National Forests. Annual maintenance not performed becomes a backlog that creates a financial burden for the FS. To remedy the backlog and pay for needed maintenance the FS requires commercial users to apply and pay for a permit, to use the FS Road System. Maintenance resulting from commercial use is accomplished through collection of funds or requiring the commercial users to perform the maintenance. The vehicle for this is the Road Use Permit. The authority for the Road Use Permit process comes from 36 CFR 212.5, 36 CFR 212.9 and 36 CFR 261.54. Section 212.9 authorizes the FS to develop a road system with private in holders that is mutually beneficial to both parties.

Need and Use of the Information: Persons wishing to haul commercial will use form FS 7700-40. The form provides identifying information about the applicant such as the name; address; telephone number; description of mileage of roads; purpose of use; use schedule; and plans for future use. FS will use the information to prepare the applicant's permit to identify the road maintenance that is the direct result of the applicant's traffic, to calculate any applicable collections for recovery of past Federal investments in roads and assure that the requirements are met. Without the Road Use Permit, the backlog of maintenance would increase and the FS would have great difficulty providing the transportation system necessary to meet its mission.

Description of Respondents: Business or other for-profit; Individuals or households; State, Local or Tribal Government; Not-for-profit institutions.

Number of Respondents: 2000.

Frequency of Responses: Reporting: On occasion.

Total Burden Hours: 500.

Rural Business-Cooperative Service

Title: Notice of Funds Availability Inviting Applications for the Renewable Energy Systems and Energy Improvements Grant Program.

OMB Control Number: 0570-0044.

Summary of Collection: The establishing of the Renewable Energy Systems and Energy Efficiency Improvements Program under Title IX, Section 9006 requires the Secretary of Agriculture to create a program to make direct loans, loan guarantees, grants to farmers, ranchers and rural small business to purchase renewable energy systems and make energy efficiency improvements. The program is designed to help farmers, ranchers and rural small businesses reduce energy cost and consumption, develop new income streams and help meet the nation's critical energy needs. Mandatory funding beginning in fiscal year (FY) 2003 is provided to the Rural Business-Cooperative Service (RBS) annually for 5 years; however, RBS has decided to execute the grant program only for FY 2003.

Need and Use of the Information: RBS will use the information to determine applicant/grantee eligibility, project feasibility and to ensure that grantees operate on a sound basis and use grant funds for authorized purposes.

Description of Respondents: Business or other for-profit.

Number of Respondents: 133.

Frequency of Responses: Recordkeeping; Reporting: On occasion; Quarterly.

Total Burden Hours: 6,251.

Rural Utilities Service

Title: 7 CFR Part 1738, Rural Broadband Access.

OMB Control Number: 0572-NEW

Summary of Collection: Adding Title VI, Rural Broadband Access, amended The Rural Electrification Act of 1936 (RE Act), to provide loans and loan guarantees to fund the cost of construction, improvement, or acquisition of facilities and equipment for the provision of broadband service in eligible rural communities in States and territories of the United States. The regulation prescribes the types of loans available, facilities financed and eligible applicants, as well as minimum credit support requirements considered for a loan. In addition, Title VI of the RE Act requires that Rural Utilities Service (RUS) make or guarantee a loan only if there is reasonable assurance that the loan together with all outstanding loans and obligations of the borrower will be repaid in full within the time agreed.

Need and Use of the Information: RUS will collect information to determine whether an applicant's eligibility to borrow from RUS under the terms of the RE Act and that the applicant complies with statutory, regulatory and administrative eligibility requirements for loan assistance. RUS will use the information to determine that the Government's security for loans made are reasonably adequate and that the loans will be repaid within the time agreed.

Description of Respondents: Business or other for-profit; Not-for-profit institutions.

Number of Respondents: 300.

Frequency of Responses: Reporting: On occasion.

Total Burden Hours: 28,475.

Rural Housing Service

Title: 7 CFR 1980-D, Rural Housing Loans.

OMB Control Number: 0575-0078.

Summary of Collection: The Rural Housing Service (RHS) is a credit agency for rural development for the U.S. Department of Agriculture. The purpose of the Guaranteed Rural Housing (GRH) program is to assist low and moderate-income individuals and families in acquiring or constructing a single-family residence in a rural area with loans made by private lenders. Eligibility for this program includes low to moderate-income families or persons whose income does not exceed 115% of the median income for the area. The information requested by RHS includes borrower financial information such as household income, assets and liabilities, and monthly expenses.

Need and Use of the Information: All information collected is vital for RHS to determine if borrowers qualify for all the assistance for which they are eligible. Information requested by lenders is required to ensure lenders are eligible to participate in the GRH program and are in compliance with OMB Circular A-129. If the information were collected less frequently or not at all, the agency could not effectively monitor lenders and assess the program.

Description of Respondents: Individuals or households; Business or other for-profit; State, Local or Tribal Government.

Number of Respondents: 37,456.

Frequency of Responses: Reporting: Monthly; On occasion.

Total Burden Hours: 120,442.

Rural Housing Service

Title: 7 CFR 1940-G, Environmental Program.

OMB Control Number: 0575-0094. Summary of Collection: The National Environmental Policy Act (NEPA) requires Federal agencies prior to the approval of proposed actions to consider the potential environmental impacts of these actions. Consequently, for the agencies to comply with NEPA, it is necessary to have information on the types of environmental resources on site or in the vicinity that might impact the proposed action. Also, information is required on the nature of the project selected by the applicant.

Need and Use of the Information: The agency will collect environmental data using form RD 1940-20, Request for Environmental Information. Having all activities and environmental information on the proposed project site will enable the Agency official to determine the magnitude of the potential environmental impacts and whether the project is controversial for environmental reasons. The agency failure to collect environmental information would result in a violation of NEPA. Thus, the agency would have no basis to support a decision regarding the need for an environmental impact statement.

Description of Respondents: Farms; Individuals or households; Business or other for-profit; Not-for-profit institutions; State, Local or Tribal Government.

Number of Respondents: 3,915.

Frequency of Responses: Reporting: On occasion.

Total Burden Hours: 21,812.

National Agricultural Statistics Service

Title: Farm and Ranch Irrigation Survey.

OMB Control Number: 0535-0234.

Summary of Collection: The Farm and Ranch Irrigation Survey (FRIS) has provided detailed data on water management practices and water uses in American agriculture for the past two decades. The 2003 FRIS will gather data describing the irrigation activities of U.S. farm operations. Some of these activities are of national concern, such as the use of chemigation, fertigation and water-conserving practices of irrigators. The FRIS is an integral part of the 2002 Census of Agriculture and is conducted under the authority of the Census of Agriculture Act of 1997 (Pub. L. 105-113).

Need and Use of the Information: NASS will collect information from the FRIS on acres irrigated by land use category, acres and yields of irrigated and non-irrigated crops, quantity of water applied and method of application to selected crops, acres irrigated and quantity of water used by sources, acres irrigated by type of water distribution systems, and number of irrigation wells and pumps. The primary purpose of FRIS is to provide detailed data relating to on-farm irrigation activities for use in preparing a wide variety of water-related local programs, economic models, legislative initiatives, market analyses, and feasibility studies. The absence of FRIS would certainly affect irrigation policy decision.

Description of Respondents: Farms.

Number of Respondents: 25,000.

Frequency of Responses: Reporting: Other (one-time).

Total Burden Hours: 15,250.

Ruth Brown,
Departmental Information Collection Clearance Officer.

[FR Doc. 03-23528 Filed 9-15-03; 8:45 am]

BILLING CODE 3410-01-M